DEPARTMENT OF TRANSPORTATION

Federal Transit Administration

[FTA Docket No. FTA-2009-0037]

Agency Information Collection Activity Under OMB Review

AGENCY: Federal Transit Administration, DOT.

ACTION: Notice of request for comments.

SUMMARY: The Federal Transit Administration invites public comment about our intention to request the Office of Management and Budget's (OMB) approval to renew the following information collection: Metropolitan and Statewide Transportation Planning (OMB Number: 2132-0529). The information to be collected for this program is to evaluate proposed New and Small Starts projects. The Federal Register Notice with a 60-day comment period soliciting comments was published on April 27, 2009.

DATES: Comments must be submitted before September 8, 2009. A comment to OMB is most effective if OMB receives it within 30 days of publication.

FOR FURTHER INFORMATION CONTACT: LaStar Matthews, Office of Administration, Office of Management Planning, (202) 366-2295.

SUPPLEMENTARY INFORMATION: Title: Metropolitan and Statewide Transportation Planning.

Abstract: The Federal Transit Administration (FTA) and Federal Highway Administration (FHWA) jointly carry out the federal mandate to improve urban and rural transportation. 49 U.S.C. Sections 5303 and 5304 and 23 U.S.C. 134 and 135 authorize the use of federal funds to assist Metropolitan Planning Organizations (MPOs), States, and local public bodies in developing transportation plans and programs to serve the transportation needs of urbanized areas over 50,000 in population and other areas of States outside of urbanized areas. The information collection activities involved in developing the Unified Planning Work Program (UPWP), the Metropolitan Transportation Plan, the Long Range Statewide Transportation Improvement Plan, the Transportation Improvement Program (TIP), and the Statewide Transportation Improvement Program (STIP) are necessary to identify and evaluate the transportation issues and needs in each urbanized area and throughout every state. These products of the transportation planning process are essential elements in the reasonable planning and programming of federally funded transportation investments.

In addition to serving as management tools for MPOs and State DOTs, the UPWP and State Planning and Research (SP&R) Work Program are used by both FTA and FHWA to monitor the transportation planning activities of those agencies. It is also needed to establish national out year budgets and regional program plans, develop policy on using funds, monitor State and local compliance with national technical emphasis areas, respond to Congressional inquiries, prepare Congressional testimony, and ensure efficiency in the use and expenditure of federal funds by determining that planning proposals are both reasonable and cost-effective. 49 U.S.C. Section 5303 and 23 U.S.C.134(h) require the development of TIPs for urbanized areas; STIPs are mandated by 49 U.S.C. Section 5304 and 23 U.S.C. 235(f) for an entire State. After approval by the Governor and MPO, metropolitan TIPs in attainment areas are to be incorporated directly into the STIP. For nonattainment areas, FTA/FHWA must make a conformity finding on the TIPs before including them into the STIP. The complete STIP is then jointly reviewed and approved or disapproved by FTA and FHWA. These conformity findings and approval actions constitute the determination that Sates are complying with the requirements of 23 U.S.C. 235 and 49 U.S.C. Section 5304 as a condition of eligibility for federal-aid funding. Without these documents, approvals and findings, capital and/or operating assistance cannot be provided.

Estimated Total Annual Burden: 38,760 hours.

ADDRESSES: All written comments must refer to the docket number that appears at the top of this document and be submitted to the Office of Information and Regulatory Affairs, Office of Management and Budget, 725 17th Street, NW., Washington, DC 20503, Attention: FTA Desk Officer.

Comments Are Invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued: July 31, 2009.
Ann M. Linnertz,
Associate Administrator for Administration.

[FR Doc. E9-18772 Filed 8-5-09; 8:45 am]

BILLING CODE 4910-57-P